DEPARTMENT OF HEALTH AND HUMAN SERVICES

Health Resources and Services Administration

Agency Information Collection Activities: Submission to OMB for Review and Approval; Public Comment Request; The National Health Service Corps Loan Repayment Programs

AGENCY: Health Resources and Services Administration (HRSA), Department of Health and Human Services (HHS).

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than March 25, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION:

Information Collection Request Title: The National Health Service Corps Loan Repayment Programs OMB No. 0915-0127—Revision.

Abstract: The National Health Service Corps (NHSC) Loan Repayment Program (LRP) was established to assure an adequate supply of trained primary care health professionals to provide services in Health Professional Shortage Areas (HPSAs) of the United States with the greatest need. The NHSC Substance Use Disorder Workforce LRP and the NHSC Rural Community LRP were established to recruit and retain a health professional workforce with specific training and credentials to provide evidence-based substance use disorder treatment in HPSAs. Under these programs, HHS agrees to repay the qualifying educational loans of selected primary care health professionals. In return, the health professionals agree to serve for a specified period of time in an NHSC-approved site located in a federally-designated HPSA approved by the Secretary of HHS for LRP participants.

The forms used by each LRP include the following: (1) the NHSC LRP Application, (2) the Authorization for Disclosure of Loan Information Form, (3) the Privacy Act Release Authorization Form, and, if applicable, (4) the Verification of Disadvantaged Background Form, (5) the Private Practice Option Form, and (6) the NHSC Spanish Language Assessment Proficiency Test Form. The first four of the NHSC LRP Forms collect information that is needed for selecting participants and repaying qualifying educational loans. The Private Practice Option and Spanish Language Assessment forms are needed to collect information from applicants who wish to be considered for those options.

Need and Proposed Use of the Information: The need and proposed use of this information collection is to assess an LRP applicant's eligibility and qualifications for the LRP, and to determine LRP applicants' Spanish language proficiency if relevant to their application, and to obtain information for NHSC site applicants. The NHSC LRP application asks for personal, professional, and financial/loan information.

Likely Respondents: Likely respondents include licensed primary care medical, dental, and behavioral health providers who are employed or seeking employment and are interested in serving underserved populations.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
NHSC LRP Application | 9,020 | 1 | 9,020 | 1.00 | 9,020
Authorization for Disclosure of Loan Information Form | 7,150 | 1 | 7,150 | 0.10 | 715
Privacy Act Release Authorization Form | 303 | 1 | 303 | 0.10 | 30
Verification of Disadvantaged Background Form | 660 | 1 | 660 | 0.50 | 330
Private Practice Option Form | 330 | 1 | 330 | 0.10 | 33
NHSC Comprehensive Behavioral Health Services Checklist | 4,400 | 1 | 4,400 | 0.13 | 572
NHSC Spanish Language Assessment Proficiency Test Form | 3,006 | 1 | 3,006 | 0.50 | 1,503
NHSC Site Application (including recertification) | 4,070 | 1 | 4,070 | 0.50 | 2,035
Total | 28,939 |  | 28,939 |  | 14,238

Maria G. Button,
Director, Executive Secretariat.

[FR Doc. 2024-01224 Filed 1-22-24; 8:45 am]

BILLING CODE 4165-15-P